ENVIRONMENTAL PROTECTION AGENCY

40 CFR Part 52

[SC-039; 043-200222(a); FRL-7202-4]

Approval and Promulgation of Implementation Plans South Carolina: Approval of Revisions to the 1-Hour Ozone Maintenance State Implementation Plan for the Cherokee County

AGENCY: Environmental Protection Agency (EPA).

ACTION: Direct final rule.

SUMMARY: EPA is approving revisions to the Cherokee County 1-hour ozone maintenance area portion of the South Carolina Air Quality State Implementation Plan (SIP), submitted by the South Carolina Department of Health and Environmental Control (SC DHEC) on January 31, 2002. This SIP revision satisfies the requirement of section 175A(b) of the Clean Air Act (CAA) for the second 10-year update for the Cherokee County maintenance plan. Additionally, this submittal explicitly identifies the motor vehicle emission budgets (‘budgets’) for oxides of nitrogen (NOX) and volatile organic compounds (VOC). In this action, EPA is also approving and finding adequate Cherokee County's ‘budgets’ for NOX and VOC supplied in this updated maintenance plan. These budgets, identified for the year 2012, will be used for the purposes of conducting transportation conformity analyses for Cherokee County, in accordance with the requirements of the CAA amendments of 1990 and the Transportation Conformity rule.

DATES: This direct final rule is effective on June 25, 2002 without further notice, unless EPA receives adverse written comment by May 28, 2002. If EPA receives such comments, it will publish a timely withdrawal of the direct final rule in the Federal Register and inform the public that the action will not take effect. EPA will subsequently respond to submitted comments and take final action on the parallel proposed rule published elsewhere in the proposed rules section of this Federal Register.

ADDRESSES: All comments should be addressed to: Sean Lakeman or Lynorae Benjamin at the EPA, Region 4 Air Planning Branch, 61 Forsyth Street, SW, Atlanta, Georgia 30303-8960.

Copies of the documents relative to this action are available for public inspection during normal business hours at the following locations. Persons wanting to examine these documents should make an appointment with the appropriate office at least 24 hours before the visiting day. Reference file number SC-039; 043-200222. The Region 4 office may have additional background documents not available at the other locations.

Air and Radiation Docket and Information Center (Air Docket 6102), EPA, 401 M Street, SW, Washington, DC 20460.

SC DHEC, Bureau of Air Quality, 2600 Bull Street, Columbia, South Carolina 29201.

FOR FURTHER INFORMATION CONTACT: Sean Lakeman, Regulatory Planning Section, Air, Pesticides and Toxics Management Division, Region 4, Environmental Protection Agency, Atlanta Federal Center, 61 Forsyth Street, SW, Atlanta, Georgia 30303-8960. Mr. Lakeman's telephone number is (404) 562-9043. He can also be reached via electronic mail at lakeman.sean@epa.gov.

Lynorae Benjamin, Air Quality Modeling and Transportation Section, Air Planning Branch, Air, Pesticides and Toxics Management Division, Region 4, Environmental Protection Agency, Atlanta Federal Center, 61 Forsyth Street, SW, Atlanta, Georgia 30303-8960. Ms. Benjamin's telephone number is (404) 562-9040. She can also be reached via electronic mail at benjamin.lynorae@epa.gov.

SUPPLEMENTARY INFORMATION: The following provides additional information and EPA's rationale for approving the revisions to the 1-hour ozone maintenance plan for the Cherokee County portion of the South Carolina SIP.

A. What Is the Background for This Action?

On November 6, 1991, Cherokee County, South Carolina was designated by EPA as a marginal nonattainment area because of multiple exceedances in 1988 of the National Ambient Air Quality Standard (NAAQS) for ozone at the air quality monitor located in the Cowpens National Battle Field. After three consecutive years of satisfactory air quality data, Cherokee County was redesignated to attainment for the 1-hour ozone standard on December 15, 1992 (57 FR 59300). A ten-year maintenance plan for Cherokee County was submitted to and approved by EPA to help assure continued attainment of the 1-hour ozone standard. The mobile emission model, MOBILE 4.1 (the current model at that time), was used to estimate the emissions inventory for VOC, NOX, and carbon monoxide (CO) for the maintenance plan. The last year for the maintenance plan is 2002.

Through direct final rulemaking, published in the Federal Register on December 18, 1998, EPA approved revisions to the 1-hour ozone maintenance plan for the Cherokee County portion of the South Carolina SIP submitted on June 27, 1998, by the State of South Carolina (63 FR 70019). The primary purpose of that action was to incorporate revised motor vehicle emissions budgets for NOX and VOC for Cherokee County, South Carolina, into the SIP. Specifically, that approval action updated emission projections previously developed with the MOBILE 4.1 emissions model with emission projections developed with the MOBILE 5a emissions model. Further, that action specified that the emission projections for the on-road emissions source category combined with the available safety margin, were being considered as “budgets” to be used for demonstration of conformity of transportation plans, programs, and projects with the South Carolina SIP for the Cherokee County 1-hour ozone maintenance area. The safety margin was made possible by emission reductions in the area source category for NOX and VOC emissions from residential wood burning. The previous SIP submittal overestimated emissions from residential wood burning. A “safety margin” is the difference between the attainment level of emissions (from all sources) and the projected level of emissions (from all sources) in the maintenance plan. The budget years that resulted from that action were 2000 and 2002, the last year of the maintenance plan.

B. What Did the State Submit?

On February 21, 2001, SC DHEC submitted a SIP revision updating emission projections for the ten-year maintenance period immediately following the last year (i.e., 2002) of the initial maintenance plan submitted for Cherokee County, South Carolina. On January 31, 2002, SC DHEC submitted a revision to the February 21, 2001, submittal that removed the Tier 2/Low Sulfur credit from its earlier revision and recalculated the emissions budget accordingly. These SIP revisions were submitted to satisfy the requirement of section 175A(b) of the CAA and contains comprehensive inventories for VOC, NOX, and CO emissions for the Cherokee County maintenance area. The inventories include point sources, area sources, on-road mobile, non-road mobile, biogenic sources, and in some cases, a safety margin. The emission projections for area and non-road sources applied growth factors of 10.4 percent for 2000 and 12.5 percent for 2002 to the base line 1990 emissions based on the 1995 South Carolina Statistical Abstracts. The 1990 data was taken from the “1990 Base Year Ozone Emissions Inventory for Cherokee County, South Carolina Nonattainment Area,” March 1995. Based on more recent data from the 1998 South Carolina Statistical Abstracts, the State used a growth rate of 21.4 percent for the 2012 emissions projections. The on-road mobile source projections are based on MOBILE 5a modeling. The following tables list a summary of the CO, NOX, and VOC emissions for 1990 and 2000, as well as a projection of these emissions for 2002 and 2012.

Cherokee County Maintenance Area—Summary: Daily and Annual Emission Projections for 1990 through 2012
Pollutant | Tons/Day: 1990 | Tons/Day: 2000 | Tons/Day: 2002 | Tons/Day: 2012 | Tons/Year: 1990 | Tons/Year: 2000 | Tons/Year: 2002 | Tons/Year: 2012
VOC | 43.47 | 42.32 | 42.41 | 43.28 | 10,148.40 | 9,739.86 | 9,772.63 | 10,104.83
NOX | 9.37 | 9.23 | 9.16 | 8.36 | 3,439.30 | 3,388.29 | 3,357.74 | 3,068.34
CO | 74.22 | 46.67 | 44.23 | 40.04 | 30,096.10 | 20,338.54 | 19,527.32 | 18,299.39

Cherokee County Maintenance Area—Daily and Annual VOC Emission Projections for 1990 through 2012
VOC Emissions | Tons/Day: 1990 | Tons/Day: 2000 | Tons/Day: 2002 | Tons/Day: 2012 | Tons/Year: 1990 | Tons/Year: 2000 | Tons/Year: 2002 | Tons/Year: 2012
Point Sources | 2.02 | 2.23 | 2.27 | 2.51 | 614.10 | 677.97 | 690.86 | 763.14
Area Sources | 3.79 | 4.19 | 4.27 | 4.61 | 1,596.40 | 1,762.43 | 1,795.95 | 1,938.03
On-road Mobile | 6.11 | 4.32 | 4.28 | 4.59 | 2,229.20 | 1,578.37 | 1,563.23 | 1,674.74
Non-road Mobile | 0.23 | 0.25 | 0.26 | 0.24 | 71.10 | 78.49 | 79.99 | 86.32
Biogenic Sources | 31.32 | 31.32 | 31.32 | 31.32 | 5,637.60 | 5,637.60 | 5,637.60 | 5,637.60
Safety Margin | NA | 0.01 | 0.01 | 0.01 | NA | 5.00 | 5.00 | 5.00
Total | 43.47 | 42.32 | 42.41 | 43.28 | 10,148.40 | 9,739.86 | 9,772.63 | 10,104.83

Cherokee County Maintenance Area—Daily and Annual NOX Emission Projections for 1990 through 2012
NOX Emissions | Tons/Day: 1990 | Tons/Day: 2000 | Tons/Day: 2002 | Tons/Day: 2012 | Tons/Year: 1990 | Tons/Year: 2000 | Tons/Year: 2002 | Tons/Year: 2012
Point Sources | 0.82 | 0.91 | 0.93 | 1.02 | 270.20 | 298.30 | 303.98 | 335.78
Area Sources | 0.21 | 0.23 | 0.24 | 0.26 | 147.10 | 162.40 | 165.49 | 178.58
On-road Mobile | 7.79 | 7.45 | 7.34 | 6.38 | 2,843.90 | 2.720.97 | 2,677.91 | 2,327.77
Non-road Mobile | 0.55 | 0.61 | 0.62 | 0.67 | 178.10 | 196.62 | 200.36 | 216.21
Biogenic Sources | NA | NA | NA | NA | NA | NA | NA | NA
Safety Margin | NA | 0.03 | 0.03 | 0.03 | NA | 10.00 | 10.00 | 10.00
Total | 9.37 | 9.23 | 9.16 | 8.36 | 3,439.30 | 3,388.29 | 3,357.74 | 3,068.34

Cherokee County Maintenance Area—Daily and Annual CO Emission Projections for 1990 through 2012
CO Emissions | Tons/Day: 1990 | Tons/Day: 2000 | Tons/Day: 2002 | Tons/Day: 2012 | Tons/Year: 1990 | Tons/Year: 2000 | Tons/Year: 2002 | Tons/Year: 2012
Point Sources | 0.26 | 0.29 | 0.29 | 0.32 | 83.20 | 91.85 | 93.60 | 104.43
Area Sources | 5.84 | 6.45 | 6.57 | 7.0 | 5,319.70 | 5,872.95 | 5,984.66 | 6,458.12
On-road Mobile | 64.92 | 36.40 | 33.77 | 28.84 | 23,695.80 | 13,272.61 | 12,326.98 | 10,526.00
Non-road Mobile | 3.20 | 3.53 | 3.60 | 3.88 | 997.40 | 1,101.13 | 1,122.08 | 1,210.84
Biogenic Sources | NA | NA | NA | NA | NA | NA | NA | NA
Total | 74.22 | 46.67 | 44.23 | 40.04 | 30,096.10 | 20,338.54 | 19,527.32 | 18,299.39

In addition to the updated emission projections and in accordance with the requirements of the Transportation Conformity rule and its subsequent amendments (i.e., 40 CFR part 93), the State explicitly identifies the motor vehicle emission budgets for NOX and VOC for 2012, and beyond. Until 2012, the applicable budgets for the purposes of conducting transportation conformity analyses for Cherokee County will continue to be the 2002 motor vehicle emissions budgets. Transportation conformity means that the level of emissions from the transportation sector (cars, trucks and buses) must be consistent with the requirements in the SIP to attain and maintain the air quality standards. Section 176(c) of Clean Air Act, 42 U.S.C. 7506(c), states that transportation plans, programs and projects conform to an effective implementation plan. The Transportation Conformity Rule and its subsequent amendments require an ozone maintenance area, such as Cherokee County, to compare the actual projected emissions from cars, trucks and buses on the highway network, to the motor vehicle emission budgets established by a maintenance plan. Our approval of this maintenance plan establishes the motor vehicle emission budgets for transportation conformity purposes. See section entitled, What are the motor vehicle emissions budgets for Cherokee County, South Carolina?, of this rulemaking for more details.

C. Does the State Submittal Meet the SIP Approval Requirements Under Section 110?

This SIP submittal meets the requirements outlined in section 110 and Part D of Title I of the CAA amendments and 40 CFR part 51 (Requirements for Preparation, Adoption and Submittal of Implementation Plans). Further, the SIP submittal meets the requirements of the Transportation Conformity Rule and its subsequent amendments (i.e., 40 CFR part 93).

D. What Are the Motor Vehicle Emissions Budgets for Cherokee County, South Carolina?

The CAA, as amended in 1990, defines conformity to an implementation plan as conformity to the plan's purpose of reducing the severity and number of violations of the NAAQS and achieving expeditious attainment of such standards. Specifically, the CAA requires that projects, transportation improvement programs (TIP) and long range transportation plans that are federally funded or approved not cause or contribute to any new violation, increase the frequency or severity of any existing violation, or delay timely attainment of any standard or any required interim emission reductions or other milestones in any area. Therefore, the emissions expected from implementation of such transportation projects, plans and programs must be consistent with estimates of emissions from a maintenance plan. As such, SC DHEC has specifically identified emission budgets for VOC and NOX for the Cherokee County maintenance area.

Section 2.5, Motor Vehicle Emissions Budget, of the State's submittal explicitly defines the on-road mobile sources portion of the emissions inventory for VOC and NOX as the motor vehicle emission budgets to be used by the South Carolina Department of Transportation and transportation authorities to assure that transportation plans, programs, and projects are consistent with, and conform to, the long-term maintenance of the 1-hour ozone standard in Cherokee County. An emissions budget is the level of controlled emissions from the transportation sector (mobile sources) projected by the state and included in the SIP. The SIP controls emissions through regulation, for example, of fuels and exhaust levels for cars. The emissions budget concept is further explained in the preamble to the November 24, 1993, transportation conformity rule (58 FR 62188). The preamble also describes how states establish the motor vehicle emission budgets in the SIP and revise the emissions budget. The following table highlights the motor vehicle emission budgets for NOX and VOC for the Cherokee County maintenance area in South Carolina.

2012 Motor Vehicle Emissions Budgets for Cherokee County
VOC (tons per day) | NOX (tons per day)
4.59 | 6.38

Through this action, EPA is notifying the public that we believe the “budgets” for VOC and NOX identified in the Cherokee County 1-hour ozone maintenance plan update are adequate for conformity purposes and approvable as part of the maintenance plan for this area, because in addition to meeting the requirements of section 175A and 107(d), adequate opportunity for public comment on these “budgets” was provided through the State public comment process and the adequacy process (posted February 12, 2002). As of March 14, 2002, the close of the public notice period, there were no requests for copies of the State's submittal for public review or comment.

E. What is the Process for EPA Approval of This Action?

EPA is publishing approval for this rule without prior proposal because the Agency views this as a noncontroversial action and anticipates no adverse comment. However, in a separate document in this Federal Register publication, EPA is proposing to approve this action should adverse written comments be filed. This action will be effective on June 25, 2002 without further notice unless EPA receives adverse comment by May 28, 2002. If EPA receives adverse comment, EPA will publish a timely withdrawal in the Federal Register informing the public that the clarification for this rule will not take effect. EPA will address all public comments in a subsequent final rule based on the proposed rule. EPA will not institute a second comment period on this action. Any parties interested in commenting must do so at this time.

Final Action

EPA is approving revisions to the 1-hour ozone maintenance plan to update emission projections for the next ten-year maintenance period for the Cherokee County, South Carolina maintenance area. Additionally, EPA is deeming adequate and approving the motor vehicle emission budgets for the Cherokee County maintenance area for VOC and NOX for the year 2012, and beyond.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 25, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Ozone, Reporting and recordkeeping requirements.

Dated: April 18, 2002.
Winston A. Smith,
Acting for Regional Administrator, Region 4.

Chapter I, title 40, Code of Federal Regulations, is amended as follows:

PART 52—[AMENDED]

1. The authority citation for part 52 continues to read as follows:

Authority: 42 U.S.C. 7401 et seq.

Subpart PP—South Carolina

2. Revise § 52.2120(e) to read as follows:

§ 52.2120 Identification of plan.

* * * * *

(e) EPA-approved South Carolina non-regulatory provisions.

Provision | State effective date | EPA approval date | Explanation
Cherokee County Ozone Ten Year Maintenance Plan | 01/31/02 | April 26, 2002.

[FR Doc. 02-10334 Filed 4-25-02; 8:45 am]

BILLING CODE 6560-50-P